OFFICE OF PERSONNEL MANAGEMENT

Submission for OMB Review; Comment Request for Revision of an Expiring Information Collection: Mail Reinterview Form (OFI 10), OMB No. 3206-0106

AGENCY: Office of Personnel Management.

ACTION: Notice.

SUMMARY: In accordance with the Paperwork Reduction Act of 1995 (Pub. L. 104-13), this notice announces that the Office of Personnel Management has submitted to the Office of Management and Budget (OMB) a request for revision of an expiring information collection (Mail Reinterview Form OFI 10; OMB No. 3206-0106). OPM sends the OFI 10 questionnaire to a random sampling of record and personal sources contacted during background investigations when investigators have performed fieldwork. The OFI 10 is used as a quality control instrument designed to ensure the accuracy and integrity of the investigative product, as it inquires of the sources about the investigative procedure employed by the investigator, the investigator's professionalism, and the information discussed and reported.

It is estimated that 9,600 OFI 10 forms are sent to individual sources annually. Of those, it is estimated that 5,600 individuals respond.

We anticipate sending and receiving a similar number of OFI 10 forms in the years ahead. Each form takes approximately six minutes to complete. The estimated annual burden is 560 hours.

For copies of this proposal, contact Mary Beth Smith-Toomey on (202) 606-8358, Fax (202) 418-3251 or e-mail to mbtoomey@opm.gov. Please be sure to include a mailing address with your request.

DATES: Comments on this proposal should be received within 30 calendar days from the date of this publication.

ADDRESSES: Send or deliver comments to:

Kathy Dillaman, Deputy Associate Director, Center for Federal Investigative Services, U.S. Office of Personnel Management, 1900 E. Street, Room 5416, Washington, DC 20415; and,

Joseph Lackey, Desk Officer, Office of Information and Regulatory Affairs, Office of Management and Budget, New Executive Office Building, NW., Room 10235, Washington, DC 20503.

FOR FURTHER INFORMATION CONTACT: Doug Steele—Program Analyst, Program Services Group, Center for Federal Investigative Services, U.S. Office of Personnel Management. (202) 606-2325.

Office of Personnel Management.
Dan G. Blair,
Acting Director.

[FR Doc. 05-3838 Filed 2-28-05; 8:45 am]

BILLING CODE 6325-38-P